FEDERAL COMMUNICATIONS COMMISSION

[DA 14-995]

Notice of Debarment

AGENCY: Federal Communications Commission.

ACTION: Notice.

SUMMARY: The Enforcement Bureau (the “Bureau”) debars Bryan J. Cahoon from the schools and libraries universal service support mechanism (or “E-Rate Program”) for a period of three years. The Bureau takes this action to protect the E-Rate Program from waste, fraud, and abuse.

DATES: Debarment commences on the date Mr. Bryan J. Cahoon receives the debarment letter or August 12, 2014, whichever date comes first, for a period of three years.

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Ms. Theresa Cavanaugh, Chief, Investigations and Hearings Division, by telephone at (202) 418-1420 and by email at Terry.Cavanaugh@fcc.gov.

SUPPLEMENTARY INFORMATION: The Bureau debarred Mr. Bryan J. Cahoon from the schools and libraries service support mechanism for a period of three years pursuant to 47 CFR 54.8. Attached is the debarment letter, DA 14-995, which was mailed to Mr. Cahoon and released on July 15, 2014. The complete text of the notice of debarment is available for public inspection and copying during regular business hours at the FCC Reference Information Center, Portal II, 445 12th Street SW., Room CY-A257, Washington, DC 20554. In addition, the complete text is available on the FCC's Web site at http://www.fcc.gov. The text may also be purchased from the Commission's duplicating inspection and copying during regular business hours at the contractor, Best Copy and Printing, Inc., Portal II, 445 12th Street SW., Room CY-B420, Washington, DC 20554, telephone (202) 488-5300 or (800) 378-3160, facsimile (202) 488-5563, or via email http://www.bcpiweb.com.

Federal Communications Commission.
Theresa Z. Cavanaugh,
Chief, Investigations and Hearings Division, Enforcement Bureau.

July 15, 2014

DA 14-995

SENT VIA CERTIFIED MAIL, RETURN RECEIPT REQUESTED AND E-MAIL

Mr. Bryan J. Cahoon

Register Number 95443-038

FMC Devens

Federal Medical Center

P.O. Box 879

Ayer, MA 01432

Re: Notice of Debarment, FCC Case No. EB-IHD-13-00010969

Dear Mr. Cahoon:

The Federal Communications Commission (Commission) hereby notifies you that, pursuant to Section 54.8 of its rules, you are prohibited from participating in activities associated with or relating to the schools and libraries universal service support mechanism (E-Rate program) for three years from either the date of your receipt of this Notice of Debarment or of its publication in the Federal Register, whichever is earlier in time (Debarment Date).¹

¹ 47 CFR 54.8(e), (g); see also id. 0.111 (delegating authority to the Enforcement Bureau to resolve universal service suspension and debarment proceedings).

On March 17, 2014, the Commission's Enforcement Bureau sent you a Notice of Suspension and Initiation of Debarment Proceedings (Suspension Notice) ² that was published in the Federal Register on June 17, 2014.³ The Suspension Notice suspended you from participating in activities associated with or relating to the E-Rate program. It also described the basis for initiating debarment proceedings against you, the applicable debarment procedures, and the effect of debarment.

² Letter from Theresa Z. Cavanaugh, Chief, Investigations and Hearings Division, FCC Enforcement Bureau, to Bryan J. Cahoon, Notice of Suspension and Initiation of Debarment Proceedings, 29 FCC Rcd 1924 (Enf. Bur. 2014) (Suspension Notice); Bryan J. Cahoon, Erratum, FCC Case No. EB-IHD-13-00010969 (Mar. 11, 2014) (correcting the address in the caption of the Suspension Notice) (Attachment 1).

³ 79 Fed. Reg. 34527 (June 17, 2014).

As discussed in the Suspension Notice, in June 2013 you were convicted of one count of fraud and theft of federal funds in connection with the E-Rate program.⁴ This fraud and theft occurred while you were employed as the Director of the Information Technology Department (IT Department) for the City of Lawrence, Massachusetts, and as a city subcontractor through your company, Networks@Home, LLC (Networks@Home).⁵ As Director of the IT Department, you defrauded the E-Rate program by, among other things, circumventing the state's procurement requirements to provide bidding information and instructions, and award contracts, to your friends and business associates.⁶ You also hired friends and associates to perform work for the City of Lawrence as interns.⁷ Then, as a city subcontractor through Networks@Home, you billed the City of Lawrence for the same work at inflated rates.⁸ As a result, the City of Lawrence was double-billed.⁹ At least a portion of the funds that you obtained as a result of your fraudulent schemes were E-Rate funds that the City of Lawrence had received to improve its schools' and libraries' network and technological infrastructure.¹⁰ Pursuant to Section 54.8(c) of the Commission's rules, your conviction of criminal conduct in connection with the E-Rate program is the basis for this debarment.¹¹

⁴ Suspension Notice, 29 FCC Rcd at 1925.

⁵ Id.

⁶ Id. at 1925-26.

⁷ Id. at 1926.

⁸ Id.

⁹ Id.

¹⁰ See id. at 1925-26.

¹¹ 47 CFR 54.8(c).

In accordance with the Commission's debarment rules, you were required to file with the Commission any opposition to your suspension or its scope, or to your proposed debarment or its scope, no later than 30 calendar days from either the date of your receipt of the Suspension Notice or of its publication in the Federal Register, whichever date occurred first.¹² The Commission did not receive any such opposition from you.

¹² Id. 54.8 (e)(3)-(4). Any opposition had to be filed no later than April 16, 2014.

For the foregoing reasons, you are debarred from participating in activities associated with or related to the E-Rate program for three years from the Debarment Date.¹³ During this debarment period, you are excluded from participating in any activities associated with or related to the E-Rate program, including the receipt of funds or discounted services through the E-Rate program, or consulting with, assisting, or advising applicants or service providers regarding the E-Rate program.¹⁴

¹³ Id. 54.8(e)(5), (g).

¹⁴ Id. 54.8(a)(1), (5), (d).

Sincerely,

Theresa Z. Cavanaugh,

Chief Investigations and Hearings Division Enforcement Bureau

cc: Johnnay Schrieber, Universal Service Administrative Company (via e-mail)

Rashann Duvall, Universal Service Administrative Company (via e-mail)

William F. Bloomer, United States Attorney's Office, District of Massachusetts (via e-mail)

[FR Doc. 2014-19073 Filed 8-11-14; 8:45 am]

BILLING CODE 6712-01-P